ENVIRONMENTAL PROTECTION AGENCY

[FRL-12180-01-OW]

Clean Water Act; Contractor Access to Confidential Business Information

AGENCY: Environmental Protection Agency (EPA).

ACTION: Notice of intended transfer of confidential business information to contractor and its subcontractors.

SUMMARY: The Environmental Protection Agency (EPA) intends to transfer confidential business information (CBI) collected from numerous industries under a newly awarded blanket purchase agreement (BPA), effective July 19, 2024, to ICF International, LLC (ICF) and its subcontractors. In addition, the EPA intends to transfer CBI collected from the meat and poultry products (MPP) industry to ICF and its subcontractors under a task order on a different contract, effective July 3, 2024. Transfer of this information is necessary for ICF to assist the Office of Water in the preparation of effluent guidelines and standards and with its effluent guidelines planning and review activities. Much of the information being transferred was or will be collected under the authority of section 308 of the Clean Water Act (CWA). Interested persons may submit comments on this intended transfer of information to the address noted below.

DATES: Comments on the transfer of data are due September 5, 2024.

ADDRESSES: Comments may be sent to M. Ahmar Siddiqui, Document Control Officer, Engineering and Analysis Division (4303T), U.S. EPA, 1200 Pennsylvania Ave. NW, Washington, DC 20460, or via email at siddiqui.ahmar@epa.gov.

FOR FURTHER INFORMATION CONTACT: M. Ahmar Siddiqui, Document Control Officer, at (202) 566-1044, or via email at siddiqui.ahmar@epa.gov.

SUPPLEMENTARY INFORMATION: The EPA has transferred CBI to various contractors and subcontractors over the history of the effluent guidelines program under 40 CFR 2.302(h). The EPA determined that this transfer was necessary to enable the contractors and subcontractors to perform their work in supporting EPA in planning, developing, and reviewing effluent guidelines and standards for certain industries.

In this document, pursuant to 40 CFR 2.302(h)(2), the EPA is giving notice that, effective July 19, 2024, it has entered into a new BPA with ICF, BPA number 68HERC24A0011, located in Reston, Virginia. The purpose of this BPA is to secure economic and environmental assessment support for the EPA in its development, review, implementation, and defense of water-related initiatives for a variety of industries. To obtain assistance in responding to this BPA, ICF has entered into contracts with the following subcontractors and consultants: Cognistic LLC (located in Pittsburgh, Pennsylvania), Dr. Dennis Guignet (located in Blowing Rock, North Carolina), Dr. Robert Johnston (located in Millville, Massachusetts), Dr. David Andrew Keiser (located in Pelham, Massachusetts), Dr. Klaus Moeltner (located in Blacksburg, Virginia), Ebony Marketing Systems (located in New York, New York), Elena Besedin Consulting (located in Middletown, Rhode Island), Great Lakes Environmental Center (located in Traverse City, Michigan), Hawk Consulting LLC (located in Oak Island, North Carolina), Hellerworx, Inc. (located in Chevy Chase, Maryland), Innovate! Inc. (located in Alexandria, Virginia), Research Triangle Institute (located in Research Triangle Park, North Carolina), Resources for the Future (located in Washington, District of Columbia), Shadbegian Economic Consulting (located in Worcester, Massachusetts), Dr. Raghavan Srinivasan (located in Temple, Texas), and Texas A&M AgriLife Research (located in College Station, Texas).

In addition to the BPA, the EPA is giving notice that it will be transferring CBI to ICF, located in Reston, VA, under contract number 68HERC23D0003. The purpose of this transfer is to support economic and environmental analysis support for the EPA in its development of effluent guidelines and standards for the MPP industry. To support this contract, ICF has entered into contracts with the following subcontractors and consultants: Neptune and Company (located in Lakewood, Colorado), Avanti Corporation (located in Alexandria, Virginia), Cadmus (located in Waltham, Massachusetts), Gibb Epidemiology Consulting (located in Washington, District of Columbia), Great Lakes Environmental Center (located in Traverse City, Michigan), Inotiv (located in Morrisville, North Carolina), Mote Marine Laboratory (located in Sarasota, Florida), Pradeep Rajan, LLC (located in Chapel Hill, North Carolina), Soller Environmental (located in Berkeley, California), Vireo Advisers, LLC (located in Boston, Massachusetts), Dr. Alexandria Boehm (located in Stanford, California), Dr. Erica McKenzie (located in Philadelphia, Pennsylvania), Dr. Kara Nelson (located in Berkeley, California), Dr. Ian Pepper (located in Tucson, Arizona), and Dr. Jill Stewart (located in Carrboro, North Carolina).

All EPA contractor, subcontractor, and consultant personnel are bound by the requirements and sanctions contained in their contracts with the EPA and in the EPA's confidentiality regulations found at 40 CFR part 2, subpart B. ICF will adhere to EPA-approved security plans which describe procedures to protect CBI. ICF will apply the procedures in these plans to CBI previously gathered by the EPA and to CBI that may be gathered in the future. The security plans specify that contractor personnel are required to sign non-disclosure agreements and are briefed on appropriate security procedures before they are permitted access to CBI. No person is automatically granted access to CBI: a need to know must exist.

The information that will be transferred to ICF consists of information previously collected by the EPA to support the development and review of effluent limitations guidelines and standards under the CWA and that the EPA had transferred to ICF under a previous contract with them. In particular, information, including CBI, collected for the planning, development, and review of effluent limitations guidelines and standards for the following industries may be transferred to ICF under the new contract: airport deicing; aquaculture; centralized waste treatment; coal bed methane; concentrated animal feeding operations; coal mining; construction and development; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; petroleum refining; pharmaceutical manufacturing; pulp, paper, and paperboard manufacturing; shale gas extraction; steam electric power generation; textile mills; timber products processing; tobacco; transportation equipment cleaning; and other industrial categories that the EPA has reviewed or may review as part of its CWA required annual review activities.

The EPA also intends to transfer to ICF all information listed in this document, of the type described above (including CBI) that may be collected in the future under the authority of section 308 of the CWA or voluntarily submitted (e.g., in comments in response to a Federal Register notice), as is necessary to enable ICF to carry out the work required by its BPA and contract to support EPA's effluent guidelines planning and review process and the development of effluent limitations guidelines and standards.

Deborah Nagle,
Director, Office of Science and Technology, Office of Water.

[FR Doc. 2024-19345 Filed 8-27-24; 8:45 am]

BILLING CODE 6560-50-P